DEPARTMENT OF LABOR

Employment and Training Administration

[TA-W-35,438]

Motorola Ceramic Products, Albuquerque, New Mexico; Notice of Revised Determination on Remand

The United States Court of International Trade (USCIT), on January 17, 2001, granted the Secretary of Labor's motion for voluntary remand for further investigation of the negative determination in Former Employees of Motorola Ceramic Products v. Herman (Court Nos. 99-06-00367 and 99-07-00393).

The Department's initial denial of the petition for employees of Motorola Ceramic Products was issued on February 18, 1999 and published in the Federal Register on April 6, 1999 (64 FR 16752). The denial was based on the fact that criterion (3) of the Group Eligibility Requirements of Section 222 of the Trade Act of 1974, as amended, was not met. The work was transferred to China and that there were no imports of articles like or directly competitive with those produced by the workers at the subject firm.

On February 28, 1999, the petitioner requested administrative reconsideration of the Department's denial, which also resulted in affirmation of the initial negative decision. The determination was issued on May 24, 1999, and published in the Federal Register on June 16, 1999 (64 FR 32275).

On remand, the Department reviewed the previous TAA investigation applicable to workers of the subject firm producing ceramic filters, TA-W-32,889, which expired January 7, 1999. The Department obtained new information regarding the manufacturing process for the RF filters produced by workers of the firm. The investigation on remand revealed that the company increased imports of articles like the RF filters produced at the Albuquerque, New Mexico, plant.

Conclusion

After careful review of the additional facts obtained on remand, I conclude there were increased imports of articles like or directly competitive with those produced by the subject firm. In accordance with the provisions of the Trade Act, I make the following certification:

All workers of Motorola Ceramic Products, Albuquerque, New Mexico, who became totally or partially separated from employment on or after January 8, 1999, through two years from the issuance of this revised determination, are eligible to apply for adjustment assistance under Section 223 of the Trade Act of 1974.

Signed at Washington, DC this 23rd day of February 2001.
Linda G. Poole,
Certifying Officer, Division of Trade Adjustment Assistance.

[FR Doc. 01-6443 Filed 3-14-01; 8:45 am]

BILLING CODE 4510-30-M